DEPARTMENT OF THE INTERIOR

National Park Service

[NPS-WASO-NRNHL-18618; PPWOCRADI0, PCU00RP14.R50000]

National Register of Historic Places; Notification of Pending Nominations and Related Actions

Nominations for the following properties being considered for listing or related actions in the National Register were received by the National Park Service before June 6, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by July 22, 2015. Before including your address, phone number, email address, or other personal identifying information in your comment, you should be aware that your entire comment—including your personal identifying information—may be made publicly available at any time. While you can ask us in your comment to withhold your personal identifying information from public review, we cannot guarantee that we will be able to do so.

Dated: June 15, 2015.
J. Paul Loether,
Chief, National Register of Historic Places/National Historic Landmarks Program.

ALABAMA

Jefferson County

Birmingham Wholesale Warehouse Loop West Historic District, Roughly bounded by RRs., 14th St. S., 2nd Ave. S. & I-65, Birmingham, 15000429

Blessed Sacrament Catholic Church, 1460 Pearson Ave. SW., Birmingham, 15000430

Limestone County

Sulphur Creek Trestle Battle Site (Boundary Increase and Additional Documentation), Address Restricted, Elkmont, 15000431

Macon County

Creek Stand A.M.E. Zion Church Cemetery, (U.S. Public Health Service Syphilis Study, Macon County, Alabama MPS) Slim Rd. off of Cty. Rd. 10, Tuskegee, 15000432

Shiloh Missionary Baptist Church Cemetery, (U.S. Public Health Service Syphilis Study, Macon County, Alabama MPS) AL 81 at Pistol Range Rd., Notasulga, 15000433

Shelby County

Farrington Hall, 124 Cty. Rd. 203, Montevallo, 15000434

IOWA

Allamakee County

Waterloo Ridge Menigheds Kirke og Kirkegard Historic District, 169 Dorchester Dr., Dorchester, 15000435

Dubuque County

St. Mary's Catholic Church Historic District, 105 E. 15th, 1584 White, 1501 & 1561 Jackson Sts., Dubuque, 15000436

MINNESOTA

Brown County

New Ulm High School, 1 N. State St., New Ulm, 15000438

Nobles County

Worthington Band Shell, (Federal Relief Construction in Minnesota MPS) 418 Lake Ave., Worthington, 15000439

St. Louis County

Ely State Theater, 234 E. Sheridan St., Ely, 15000440

MISSOURI

Butler County

Cynthia—Kinzer Historic District, 900-1000 blks. of Cynthia & Kinzer, 918-924 Maud & 838-842 Kinzer Sts., Poplar Bluff, 15000441

St. Louis Independent city

Brahm—Mitchellette Motor Car Company, (Auto-Related Resources of St. Louis, Missouri MPS) 3537 S. Kingshighway Blvd., St. Louis (Independent City), 15000442

NEW JERSEY

Passaic County

Passaic County Court House and United States Custom House and Post Office Historic District, 73-87, 63-65 Hamilton St., Paterson, 15000443

TENNESSEE

Bledsoe County

Fall Creek Falls Fire Lookout Tower, (Tennessee Division of Forestry Fire Lookout Towers MPS) Fire Tower Rd., Pikeville, 15000444

Davidson County

RCA Victor Studios Building, 30 Music Square W., Nashville, 15000445

Grainger County

Old Grainger County Jail, SE. corner of Water St. & TN 92, Rutledge, 15000446

Rutledge Presbyterian Church and Cemetery, 123 Church St., Rutledge, 15000447

White County

Ravencroft Mine, Glade Creek Rd., Sparta, 15000449

TEXAS

Erath County

First National Bank Building, 198 S. Belknap St., Stephenville, 15000450

Potter County

Smith, Louis H., Inc. Firestone Store, 1004 S. Tyler St., Amarillo, 15000451

UTAH

Weber County

Ogden Union Stockyard Exchange Building, 600 W. Exchange Rd., Ogden, 15000452

WASHINGTON

King County

Magnolia Public Library, 2801 34th Ave. W., Seattle, 15000453

Masonic Temple—Auburn, 10 Auburn Way S., Auburn, 15000454

White Center Fieldhouse and Caretaker Cottage, 1321 SW. 102nd St., Seattle, 15000455

Whatcom County

Orchard Terrace Apartments, 901 N. Forest St., Bellingham, 15000456

WISCONSIN

Rock County

Masonic Temple, 508 Vernal Ave., Milton, 15000458

Wood County

Wood County Courthouse, 400 Market St., Wisconsin Rapids, 15000457

In the interest of preservation, a three day comment period has been requested for the following resource:

KENTUCKY

Woodford County

Versailles Elementary School, 299 S. Main St., Versailles, 15000459

A request for removal has been made for the following resources:

IOWA

Linn County

Horecky, Henek and Mary, Log Cabin, Address Restricted, Mt. Vernon, 00001078

LOUISIANA

East Baton Rouge Parish

Adams House, 421 S. 7th, Baton Rouge, 98000440

Evangeline Parish

LaTour, Alexis, House, 247 E. Main, Ville Platte, 87001492

Rapides Parish

Conerly House, (Neo-Classical Architecture of Bayou Rapides TR) Off US 71, Alexandria, 84000534

TENNESSEE

Williamson County

Davis, Stokely, House, (Williamson County MRA) Old Natchez Trace 1 mi. S of Moran Rd., Franklin, 88000294

[FR Doc. 2015-16570 Filed 7-6-15; 8:45 am]

BILLING CODE 4312-51-P